FEDERAL COMMUNICATIONS COMMISSION

47 CFR Part 73

[DA 10-1521; MB Docket No. 10-22, RM-11591].

Radio Broadcasting Services; DeBeque, Colorado

AGENCY: Federal Communications Commission.

ACTION: Final rule.

SUMMARY: The Audio Division grants a Petition for Rule Making issued at the request of Cochise Media Licenses, LLC, requesting the substitution of Channel 247C3 for vacant Channel 275C3 at DeBeque to accommodate the hybrid application, proposing the reallotment of Channel 274C3, Crawford, Colorado, to Channel 275C3 at Battlement Mesa, Colorado, as its first local service. A staff engineering analysis indicates that Channel 247C3 can be allotted to DeBeque consistent with the minimum distance separation requirements of the Rules with a site restriction 13.8 kilometers (8.5 miles) northeast of the community. The reference coordinates are 39-24-45 NL and 108-05-26 WL.

DATES: Effective September 30, 2010.

ADDRESSES: Secretary, Federal Communications Commission, 445 Twelfth Street, SW., Washington, DC. 20554.

FOR FURTHER INFORMATION CONTACT: Rolanda F. Smith, Media Bureau, (202) 418-2180.

SUPPLEMENTARY INFORMATION: This is a summary of the Commission's Report and Order, MB Docket No. 10-22, adopted August 12, 2010, and released August 16, 2010. The Notice of Proposed Rule Making proposed the substitution of Channel 247C3 for vacant Channel 275C3 at DeBeque, Colorado. See 75 FR 4036, published January 26, 2010. The full text of this Commission decision is available for inspection and copying during normal business hours in the Commission's Reference Information Center, 445 Twelfth Street, SW., Washington, DC 20554. The complete text of this decision may also be purchased from the Commission's duplicating contractor, Best Copy and Printing, Inc., 445 12th Street, SW., Room CY-B402, Washington, DC, 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Colorado, is amended by removing Channel 275C3 and adding Channel 247C3 at DeBeque.

Federal Communications Commission.
Andrew J. Rhodes,
Senior Counsel, Allocations Audio Division, Media Bureau.

[FR Doc. 2010-21430 Filed 8-26-10; 8:45 am]

BILLING CODE 6712-01-P